DEPARTMENT OF THE INTERIOR

Fish and Wildlife Service

[FWS-R4-R-2015-N235]; [FXRS12650400000S3-123-FF04R02000]

Cat Island National Wildlife Refuge, LA; Final Comprehensive Conservation Plan and Finding of No Significant Impact for Environmental Assessment

AGENCY: Fish and Wildlife Service, Interior.

ACTION: Notice of availability.

SUMMARY: We, the Fish and Wildlife Service (Service), announce the availability of the final comprehensive conservation plan (CCP) and finding of no significant impact for the environmental assessment for Cat Island National Wildlife Refuge (NWR) in West Feliciana Parish, Louisiana. In the final CCP, we describe how we will manage this refuge for the next 15 years.

ADDRESSES: You may obtain a copy of the CCP by writing to: Lower Mississippi River NWR Complex, P.O. Box 217, Sibley, MS 39165. Alternatively, you may download the document from our Internet Site at http://southeast.fws.gov/planning under “Final Documents.”

FOR FURTHER INFORMATION CONTACT: Jimmy Laurent, Project Leader, Lower Mississippi River NWR Complex, by telephone at (601) 442-6696 or by email at jimmy_laurent@fws.gov.

SUPPLEMENTARY INFORMATION:

Introduction

With this notice, we finalize the CCP process for Cat Island NWR. We started the process through a notice in the Federal Register on November 25, 2013 (78 FR 70318). For more about the process, see that notice.

Cat Island NWR was established in October 2000, as the 526th refuge in the National Wildlife Refuge System. It is located in West Feliciana Parish, Louisiana, near the town of St. Francisville, 25 miles north of Baton Rouge. Acquisition has occurred in stages, beginning in 2000 when The Nature Conservancy (TNC) of Louisiana made the first purchase of about 9,500 acres of forested wetlands. That and subsequent acquisitions by TNC were purchased by the Service using both the Land and Water Conservation Fund and Migratory Bird Conservation Fund. Today, the refuge encompasses 10,473 acres. The congressionally approved acquisition boundary encloses 36,500 acres.

Cat Island NWR was created by Congress through Public Law 106-369, which states: “The purposes for which the Refuge is established and shall be managed are: (1) To conserve, restore, and manage habitats as necessary to contribute to the migratory bird population goals and habitat objective [sic] as established through the Lower Mississippi Valley Joint Venture; (2) to conserve, restore, and manage the significant aquatic resource values associated with the area's forested wetlands and to achieve the habitat objectives of the Mississippi River Aquatic Resources Management Plan; (3) to conserve, enhance, and restore the historic native bottomland community characteristics of the lower Mississippi alluvial valley and its associated fish, wildlife, and plant species; (4) to conserve, enhance, and restore habitat to maintain and assist in the recovery of endangered and threatened plants and animals; and (5) to encourage the use of volunteers and facilitate partnerships among the United States Fish and Wildlife Service, local communities, conservation organizations, and other non-Federal entities to promote public awareness of the resources of the Refuge and the National Wildlife Refuge System and public participation in the conservation of those resources” (Cat Island NWR Establishment Act, 114 Stat. 1418, October 27, 2000).

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on May 1, 2015 (80 FR 24958). Copies of the Draft CCP/EA were posted at refuge headquarters and also were available for download at http://www.fws.gov/southeast/planning/CCP/cat-island.html. Over 100 letters with links to the draft comprehensive conservation plan and environmental assessment were distributed to local landowners, the public, and local, State, and Federal agencies. Three respondents, consisting of the Humane Society of the United States, the Jena Band of Choctaw Indians, and local citizens, submitted comments on the Draft CCP/EA by mail or email.

CCP Alternatives, Including Our Preferred Alternative

We developed three alternatives for managing the refuge (Alternatives A, B, and C), with Alternative B selected for implementation. This alternative will focus on managing the refuge's natural resources to enhance habitats for priority species including waterfowl and other migratory birds, threatened and endangered species, species of concern, and resident fish and wildlife. Additionally, wildlife surveys would be conducted using established protocols to establish baseline habitat conditions, estimate wildlife population indices, determine responses to management actions, and contribute to larger scale biological assessments. Invasive exotic and nuisance species would be actively managed to minimize their impacts on refuge resources. Refuge forests would be actively managed to enhance wildlife habitat. Aquatic habitats on the refuge would be inventoried and assessed, and where feasible, access to them would be improved for recreational anglers.

Refuge cultural resources would continue to be protected as they have been in the past. In addition, the refuge would seek funding to survey and catalog cultural resources on the refuge. Protection of cultural resources would be integrated into refuge planning at all levels, and management actions would be reviewed in order to avoid or mitigate impacts to cultural resources.

Under the preferred alternative, public use would be more actively managed by refuge staff. Hunting and fishing would continue to be managed and made available with the active partnership of Louisiana Department of Wildlife and Fisheries. More law enforcement personnel hours would be allocated by the Service for Cat Island NWR. New partnerships with organizations interested in promoting nonconsumptive refuge use would be sought, and existing ones strengthened. In particular, environmental education opportunities would be enhanced by active participation of Service personnel with local schools and nonprofit organizations.

Refuge infrastructure would be maintained as in the past. The refuge would seek to improve access via the main refuge road and various trails. Efforts would be made to provide access to the northeast section of the refuge, and access via Cat Island Road would be pursued. The refuge would hire or assign staff to the refuge. Staff may include one or more of the following: Refuge manager, volunteer coordinator, equipment operator, law enforcement officer, forester, and biologist. Any or all of these may be shared positions among refuges in the Lower Mississippi River Refuge Complex. Full staffing under this alternative is anticipated to be 1.5 to 2 full-time employees.

Authority

This notice is published under the authority of the National Wildlife Refuge System Improvement Act of 1997 (16 U.S.C. 668dd et seq.).

Dated: November 10, 2015.
Brett E. Hunter,
Deputy Chief, National Wildlife Refuge System Southeast Region.

[FR Doc. 2016-01417 Filed 1-22-16; 8:45 am]

BILLING CODE 4333-15-P